DEPARTMENT OF COMMERCE

International Trade Administration

Overseas Trade Missions

AGENCY: International Trade Administration, Department of Commerce.

ACTION: Notice.

SUMMARY: The Department of Commerce invites U.S. companies to participate in the below listed overseas trade missions. For a more complete description of each trade mission, obtain a copy of the mission statement from the Project Officer indicated for each mission below.

Explore BC

Vancouver, Canada, November 18-19, 2002, Recruitment closes on October 18, 2002.

For further information contact: Ms. Cheryl Schell, U.S. Department of Commerce. Telephone 604-642-6679, or e-mail Cheryl.Schell@mail.doc.gov.

RepCom Mexico City 2002

Mexico City, Mexico, December 2-5, 2002, Recruitment closes on October 26, 2002.

For further information contact: Mr. Bryan Larson, U.S. Department of Commerce. Telephone 011-52-55-5140-2612, or e-mail Bryan.Larson@mail.doc.gov.

Textile and Apparel Trade Mission to South Africa

Cape Town, Durban and Johannesburg, December 8-14, 2002, Recruitment closes on November 8, 2002.

For further information contact: Ms. Pamela Kirkland, U.S. Department of Commerce.

Telephone 202-482-3587, or e-mail Pamela.Kirkland@mail.doc.gov.

Recruitment and selection of private sector participants for these missions will be conducted according to the Statement of Policy Governing Department of Commerce Overseas Trade Missions dated March 3, 1997. For further information contact Mr. Thomas Nisbet, U.S. Department of Commerce, telephone 202-482-5657, or e-mail Tom_Nisbet@ita.doc.gov.

Dated: October 4, 2002.
Thomas H. Nisbet,
Director, Export Promotion Coordination, Office of Planning, Coordination and Management.

[FR Doc. 02-26062 Filed 10-11-02; 8:45 am]

BILLING CODE 3510-DR-P